DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 18 individuals and 15 entities whose property and interests in property have been blocked pursuant to the Foreign Narcotics Kingpin Designation Act (“Kingpin Act”) (21 U.S.C. 1901-1908, 8 U.S.C. 1182).

DATES: The designation by the Director of OFAC of the 18 individuals and 15 entities identified in this notice pursuant to section 805(b) of the Kingpin Act is effective on June 12, 2013.

FOR FURTHER INFORMATION CONTACT: Assistant Director, Sanctions Compliance & Evaluation Office of Foreign Assets Control U.S. Department of the Treasury Washington, DC 20220 Tel: (202) 622-2490

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 12, 2013, the Director of OFAC designated the following 18 individuals and 15 entities whose property and interests in property are blocked pursuant to section 805(b) of the Kingpin Act.

Individuals:

1. ADIB MADERO, Michel; DOB 21 Feb 1977; POB Jalisco, Mexico; Cedula No. 3348806 (Mexico); R.F.C. AIMM770221CJ7 (Mexico); C.U.R.P. AIMM770221HJCDDC08 (Mexico) (individual) [SDNTK] (Linked To: RESTAURANT BAR LOS ANDARIEGOS, S.A. DE C.V.).

2. BUENROSTRO VILLA, Denisse, Circuito Madrigal 4236-05, Zapopan 45510, Mexico; DOB 22 Mar 1980; POB Guadalajara, Jalisco, Mexico; C.U.R.P. BUVD800322MJCNLN06 (Mexico) (individual) [SDNTK] (Linked To: EL BANO DE MARIA, S. DE R.L. DE C.V.).

3. CARO ELENES, Hector Rafael (a.k.a. CARO HELENES, Hector Rafael), Callejon del Serrano 4361, Guadalajara, Jalisco, Mexico; Loreto Mendez #4432, Guadalajara, Jalisco, Mexico; San Gonzalo No. 1715, Colonia Santa Isabel, Zapopan, Jalisco C.P. 45110, Mexico; Calle Circuito Madrigal No. 4236 Interior 5, Colonia Santa Isabel, Zapopan, Jalisco C.P. 45110, Mexico; Avenida Acueducto No. 5056, Colonia Jardines de la Patria, Zapopan, Jalisco, Mexico; DOB 18 Dec 1975; POB Culiacan, Sinaloa, Mexico; R.F.C. CAEH751218JT4 (Mexico); C.U.R.P. CAEH751218HSLRLC01 (Mexico) (individual) [SDNTK] (Linked To: BLUE POINT SALT, S.A. DE C.V.; Linked To: DESARROLLOS BIO GAS, S.A. DE C.V.; Linked To: ECA ENERGETICOS, S.A. DE C.V.; Linked To: ORGANIC SALT, S.A. DE C.V.; Linked To: PETRO BIO, S. DE R.L. DE C.V.; Linked To: PRONTO SHOES, S.A. DE C.V.).

4. CARO ELENES, Henoch Emilio, Callejon del Sereno No. 4361, Col. Fracc. Jardines Universidad, Zapopan, Jalisco C.P. 45110, Mexico; Paseo del Bosque No. 2428, Colonia Lomas Altas, Zapopan, Jalisco, Mexico; Av. Pablo Neruda No. 4111, Casa 1, Colonia Lomas del Valle, Zapopan, Jalisco C.P. 45129, Mexico; Paseo de los Parques No. 3995, Interior 7, Zapopan, Jalisco C.P. 45110, Mexico; Loreto Mendez #4432, Guadalajara, Jalisco, Mexico; DOB 15 Mar 1980; POB Culiacan, Sinaloa, Mexico; alt. POB Guadalajara, Jalisco, Mexico; R.F.C. CAEH800315V38 (Mexico); C.U.R.P. CAEH800315HSLRLN07 (Mexico) (individual) [SDNTK] (Linked To: BLUE POINT SALT, S.A. DE C.V.; Linked To: DESARROLLOS BIO GAS, S.A. DE C.V.; Linked To: ECA ENERGETICOS, S.A. DE C.V.; Linked To: EVCOMER, S.A. DE C.V.; Linked To: PETRO BIO, S. DE R.L. DE C.V.; Linked To: PRONTO SHOES, S.A. DE C.V.; Linked To: REFORESTACIONES CARELES, S. DE P.R. DE R.L.).

5. CARO ELENES, Mario Yibran (a.k.a. CARO, Gibran), Callejon del Sereno No. 4361, Col. Fracc. Jardines Universidad, Zapopan, Jalisco C.P. 45110, Mexico; Calle Loreto Mendez 4432, Sector Hidalgo, Guadalajara, Jalisco, Mexico; DOB 11 Jun 1983; POB Guadalajara, Jalisco, Mexico; R.F.C. CAEM830611SXD (Mexico); C.U.R.P. CAEM830611HJCRLR05 (Mexico) (individual) [SDNTK] (Linked To: PETRO BIO, S. DE R.L. DE C.V.; Linked To: PRONTO SHOES, S.A. DE C.V.; Linked To: REFORESTACIONES CARELES, S. DE P.R. DE R.L.).

6. CARO ELENES, Roxana Elizabeth, Callejon del Sereno No. 4361, Col. Fracc. Jardines Universidad, Zapopan, Jalisco C.P. 45110, Mexico; San Gonzalo No. 1715, Colonia Santa Isabel, Zapopan, Jalisco C.P. 45110, Mexico; DOB 17 Jan 1978; POB Culiacan, Sinaloa, Mexico; R.F.C. CAER780117MK8 (Mexico); C.U.R.P. CAER780117MSLRLX03 (Mexico) (individual) [SDNTK] (Linked To: HACIENDA LAS LIMAS, S.A. DE C.V.; Linked To: PETRO BIO, S. DE R.L. DE C.V.; Linked To: REFORESTACIONES CARELES, S. DE P.R. DE R.L.).

7. CONTRERAS SANCHEZ, Diego; DOB 19 Apr 1985; POB Jalisco, Mexico; R.F.C. COSD850419T13 (Mexico); C.U.R.P. COSD850419HJCNNG02 (Mexico) (individual) [SDNTK] (Linked To: RESTAURANT BAR LOS ANDARIEGOS, S.A. DE C.V.).

8. CORTES VILLASENOR, Luis, Av. Vallarta No. 3060, Colonia Vallarta San Jorge, Guadalajara, Jalisco, Mexico; DOB 03 Mar 1971; POB Mexico City, Mexico; R.F.C. COVL7103034L4 (Mexico) (individual) [SDNTK] (Linked To: GRUPO FRACSA, S.A. DE C.V.; Linked To: GRUPO CONSTRUCTOR SEGUNDO MILENIO, S.A. DE C.V.).

9. ELENES LERMA, Maria Elizabeth (a.k.a. ELENES DE CARO, Elizabeth), San Gonzalo No. 1715, Colonia Santa Isabel, Zapopan, Jalisco C.P. 45110, Mexico; Carretera Isidro Mazatepec No. 500, Colonia San Agustin, Tlajomulco de Zuniga, Jalisco C.P. 45645, Mexico; DOB 12 Dec 1952; POB Badiraguato, Sinaloa, Mexico; alt. POB Culiacan, Sinaloa, Mexico; R.F.C. EELE521212B18 (Mexico); C.U.R.P. EELE521212MSLLRL01 (Mexico) (individual) [SDNTK] (Linked To: HACIENDA LAS LIMAS, S.A. DE C.V.).

10. GARZA RODRIGUEZ, Beatriz (a.k.a. GARZA RODRIGUEZ DE SANCHEZ, Beatriz), Av. Vallarta No. 3060, Colonia Vallarta San Jorge, Guadalajara, Jalisco, Mexico; 5151-37 A Av. Acueducto, La Colonia Residencial Pontevedra, Zapopan, Jalisco, Mexico; DOB 14 Nov 1948; POB Los Mochis, Sinaloa, Mexico; R.F.C. GARB481114965 (Mexico); C.U.R.P. GARB481114MSLRDT03 (Mexico) (individual) [SDNTK].

11. RIEBELING CORDERO, Hilda, 3888 Calle Paseo de los Parques, Colonia Colinas de San Javier, Zapopan, Jalisco, Mexico; DOB 21 Jan 1972; POB Guadalajara, Jalisco, Mexico; Passport 99140083768 (Mexico); R.F.C. RICH7201214J3 (Mexico); C.U.R.P. RICH720121MJCBRL08 (Mexico) (individual) [SDNTK].

12. SANCHEZ BARBA, Jose de Jesus, Av. Vallarta No. 3060, Col. Vallarta San Jorge, Guadalajara, Jalisco, Mexico; 5151-37 A Avenida Acueducto, La Colonia Residencial Pontevedra, Zapopan, Jalisco, Mexico; DOB 02 Jul 1937; POB Tepatitlan de Morelos, Jalisco, Mexico; C.U.R.P. SABJ370702HJCNRS04 (Mexico) (individual) [SDNTK].

13. SANCHEZ GARZA, Mauricio, Av. Vallarta No. 3060, Colonia Vallarta San Jorge, Guadalajara, Jalisco, Mexico; DOB 07 Dec 1970; POB Guadalajara, Jalisco, Mexico; Passport 99140083769 (Mexico); R.F.C. SAGM7012071B6 (Mexico); C.U.R.P. SAGM701207HJCNRR05 (Mexico) (individual) [SDNTK] (Linked To: DBARDI, S.A. DE C.V.; Linked To: GRUPO FRACSA, S.A. DE C.V.).

14. SANCHEZ GARZA, Jose de Jesus, Av. Vallarta No. 3060, Colonia Vallarta San Jorge, Guadalajara, Jalisco, Mexico; DOB 12 Aug 1968; POB Guadalajara, Jalisco, Mexico; Passport 98140159994 (Mexico); R.F.C. SAGJ680812RE1 (Mexico); C.U.R.P. SAGJ680812HJCNRS08 (Mexico) (individual) [SDNTK] (Linked To: GRUPO FRACSA, S.A. DE C.V.; Linked To: DBARDI, S.A. DE C.V.).

15. SANCHEZ GARZA, Diego, Av. Vallarta No. 3060, Colonia Vallarta San Jorge, Guadalajara, Jalisco, Mexico; DOB 05 Apr 1976; POB Guadalajara, Jalisco, Mexico; R.F.C. SAGD760405A45 (Mexico); C.U.R.P. SAGD760405HJCNRG06 (Mexico) (individual) [SDNTK] (Linked To: GRUPO FRACSA, S.A. DE C.V.; Linked To: DBARDI, S.A. DE C.V.; Linked To: GRUPO CONSTRUCTOR SEGUNDO MILENIO, S.A. DE C.V.).

16. SANCHEZ GONZALEZ, Ernesto, Av. Vallarta 3216, Colonia Vallarta San Jorge, Guadalajara, Jalisco, Mexico; DOB 03 Feb 1967; POB Tepatitlan de Morelos, Jalisco, Mexico; R.F.C. SAGE670203KH4 (Mexico); C.U.R.P. SAGE670203HJCNNR06 (Mexico) (individual) [SDNTK] (Linked To: GRUPO FRACSA, S.A. DE C.V.; Linked To: DBARDI, S.A. DE C.V.).

17. SANCHEZ GONZALEZ, Ruben, Av. Arcos 960, Colonia Jardines del Bosque, Guadalajara, Jalisco, Mexico; DOB 14 Jul 1964; POB Tepatitlan de Morelos, Jalisco, Mexico; R.F.C. SAGR640714-882 (Mexico); C.U.R.P. SAGR640714HJCNNB02 (Mexico) (individual) [SDNTK] (Linked To: GRUPO FRACSA, S.A. DE C.V.; Linked To: DBARDI, S.A. DE C.V.; Linked To: PISCILANEA, S.A. DE C.V.).

18. VARGAS CORREA, Humberto; DOB 25 Mar 1959; POB Iztacalco, Distrito Federal, Mexico; R.F.C. VACH5903253B0 (Mexico); C.U.R.P. VACH590325HDFRRM07 (Mexico) (individual) [SDNTK].

Entities

1. BLUE POINT SALT, S.A. DE C.V., A Las Rocas No. 244, Col. Prados Vallarta, Zapopan, Jalisco C.P. 45020, Mexico; Callejon del Sereno 4361, Zapopan, Jalisco C.P. 45110, Mexico; R.F.C. BPS050519NM6 (Mexico) [SDNTK].

2. DBARDI, S.A. DE C.V., Guadalajara, Jalisco C.P. 44540, Mexico; Folio Mercantil No. 4867-1 (Mexico) [SDNTK].

3. DESARROLLOS BIO GAS, S.A. DE C.V., Independencia Sur No. 185, Col. Analco, Guadalajara, Jalisco C.P. 44450, Mexico; R.F.C. DBG0805095P7 (Mexico) [SDNTK].

4. ECA ENERGETICOS, S.A. DE C.V., Calle Adolfo B. Horn No. 1437, Col. Pueblo Toluquilla, Tlaquepaque, Jalisco C.P. 45610, Mexico; R.F.C. EEN0310271G7 (Mexico) [SDNTK].

5. EL BANO DE MARIA, S. DE R.L. DE C.V., Periferico Poniente No. 2100, Col. Ciudad Granja, Guadalajara, Jalisco C.P. 45010, Mexico; Santa Clara No. 88, Col. El Briseno, Zapopan, Jalisco C.P. 45236, Mexico; Av. Pablo Neruda casi esq. con Ruben Dario, Guadalajara, Jalisco, Mexico; Gran Plaza, Guadalajara, Jalisco, Mexico; Plaza del Sol, Guadalajara, Jalisco, Mexico; Plaza Patria, Guadalajara, Jalisco, Mexico; Plaza Mexico, Guadalajara, Jalisco, Mexico; Aeropuerto de Guadalajara, Jalisco, Mexico; Puerto Vallarta, Jalisco, Mexico; Mazatlan, Sinaloa, Mexico; Monterrey, Nuevo Leon, Mexico; Celaya, Guanajuato, Mexico; Tijuana, Baja California, Mexico; Los Cabos, Baja California Sur, Mexico; R.F.C. BMA040923MZ9 (Mexico) [SDNTK].

6. EVCOMER, S.A. DE C.V., Independencia Sur No. 185, Col. Analco, Guadalajara, Jalisco C.P. 44450, Mexico; R.F.C. EVC080410DE6 (Mexico) [SDNTK].

7. GRUPO CONSTRUCTOR SEGUNDO MILENIO, S.A. DE C.V., Av. Acueducto, s/n Col. Fraccionamiento Jardines del Country, Guadalajara, Jalisco C.P. 44210, Mexico; Folio Mercantil No. 5269-1 [SDNTK].

8. GRUPO FRACSA, S.A. DE C.V. (a.k.a. PONTEVEDRA; a.k.a. ZOTOGRANDE), Av. Vallarta No. 3060, Col. Vallarta Norte, Guadalajara, Jalisco, Mexico; Acueducto 5300, Zapopan, Jalisco, Mexico; Acueducto 5151, Zapopan, Jalisco, Mexico; Folio Mercantil No. 19730-1 (Mexico) [SDNTK].

9. HACIENDA LAS LIMAS, S.A. DE C.V., Carretera a Ciudad Guzman Km. 49, entre de crucero de Atoyac y crucero de Amacueca, Acatlan, Jalisco, Mexico; Callejon del Sereno #4361, Colonia Villa Universitaria, Zapopan, Jalisco, Mexico; R.F.C. HLI040211HK3 (Mexico) [SDNTK].

10. ORGANIC SALT, S.A. DE C.V., Callejon del Sereno No. 4361, Col. Jacarandas Zapopan 4, Zapopan, Jalisco C.P. 45110, Mexico; R.F.C. OSA030512AL3 (Mexico) [SDNTK].

11. PETRO BIO, S. DE R.L. DE C.V., Independencia Sur No. 185, Col. Analco, Guadalajara, Jalisco C.P. 44450, Mexico; R.F.C. PBI080509Q47 (Mexico) [SDNTK].

12. PISCILANEA, S.A. DE C.V. (a.k.a. ALBERCAS E HIDROMASAJE PISCILANEA; a.k.a. ALBERCAS Y TINAS BARCELONA), Provenza Center, Av. Lopez Mateos No. 5565, Loc 23, Col. Santa Anita, Tlajomulco de Zuniga, Jalisco 45645, Mexico; R.F.C. PIS090915KS1 (Mexico) [SDNTK].

13. PRONTO SHOES, S.A. DE C.V. (a.k.a. CX INSPIRA; a.k.a. CX MILAN GUADALAJARA; a.k.a. CX MODA; a.k.a. CX-SHOES), 16 de Septiembre 635, Casi Esq. la Paz, Guadalajara, Jalisco, Mexico; Av. Lafragua 2729, Esq. Paseo Jardin, Fracc. Moderno, Veracruz, Veracruz, Mexico; Comercio No. 172, Col. Mexicaltzingo, Guadalajara, Jalisco C.P. 44180, Mexico; Padre Mier 185, Col. Centro, Monterrey, Nuevo Leon C.P. 64000, Mexico; San Lorenzo 31 Entre Calzada la Ermita y Rueda Pastor, Col. 8va. Amplicacion Iztapalapa, Mexico, Distrito Federal, Mexico; Tecnologico 210, Esq. Cortador, Fracc. Industrial Julian de Obregon, Leon, Guanajuato C.P. 37290, Mexico; R.F.C. PSH081211I53 (Mexico) [SDNTK].

14. REFORESTACIONES CARELES, S. DE P.R. DE R.L., Callejon del Sereno No. 4361, Col. Fracc. Jardines Universidad, Zapopan, Jalisco C.P. 45110, Mexico; R.F.C. RCA050316ET5 (Mexico) [SDNTK].

15. RESTAURANT BAR LOS ANDARIEGOS, S.A. DE C.V. (a.k.a. BARBARESCO RESTAURANT), Buenos Aires No. 3090, esq. Montevideo, Col. Providencia, Guadalajara, Jalisco 44630, Mexico; R.F.C. RBA0504194T6 [SDNTK].

Dated: June 12, 2013.
Adam J. Szubin,
Director, Office of Foreign Assets Control.

[FR Doc. 2013-14465 Filed 6-17-13; 8:45 am]

BILLING CODE 4810-AL-P